FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than May 6, 2020.

A. Federal Reserve Bank of New York (Ivan Hurwitz, Senior Vice President) 33 Liberty Street, New York, New York 10045-0001. Comments can also be sent electronically to Comments.applications@ny.frb.org:

1. Phillippe D. Katz, Esther Katz, Isaac S. Katz, Maxwell T. Katz, Kara Z. Newman and Charlotte Cohen, all of Lawrence, New York; Austin J. Katz of Clifton, New Jersey; Marga Marx, Joseph M. Fink, Eva Fink, Moshe Aaron Fink, Eric Dov Fink, Elliot Meir Fink, Hillary Fink Rosenberg and Kaethe Fink Feit, all of New York, New York; KF Investors LLC, and Momar Corporation, both of New York, New York, and both with Eva Fink and Ester Katz, as principal shareholders; Marneu Holding Company, New York, New York, the general partners of which are Moses Marx, Bronx, New York (who has previously received permission to control the bank holding company and bank listed below) and United Equity Reality Associates, New York, New York, (the principal shareholders of which are Moses Marx, Joseph M. Fink, and Phillip D. Katz); Terumah Foundation, Inc., New York, New York, Moses Marx, Marga Marx, Eva Fink, Joseph M. Fink, Esther Katz and Philippe D. Katz, as directors; and United Equities Commodities Company, New York, New York, Moses Marx, Joseph M. Fink, and Phillip D. Katz, as general partners; as members of a group acting in concert with Moses Marx to retain voting shares of Berkshire Bancorp Inc. and thereby indirectly retain voting shares of The Berkshire Bank, both of New York, New York.

Board of Governors of the Federal Reserve System, April 16, 2020.
Yao-Chin Chao,
Assistant Secretary of the Board.

[FR Doc. 2020-08404 Filed 4-20-20; 8:45 am]

BILLING CODE P